DEPARTMENT OF TRANSPORTATION

Federal Aviation Administration

14 CFR Part 71

[Docket No. FAA-2012-1295; Airspace Docket No. 12-AAL-10]

RIN 2120-AA66

Modification of Area Navigation (RNAV) Route T-266; AK

AGENCY: Federal Aviation Administration (FAA), DOT.

ACTION: Final rule.

SUMMARY: This action modifies low-altitude RNAV route T-266 in the state of Alaska by removing two non-directional beacons (NDB) as the navigation signal source for segments of the route and replacing them with RNAV waypoints. This action enhances the safety and efficiency of the National Airspace System (NAS).

DATES: Effective date 0901 UTC, June 27, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

The FAA published in the Federal Register a notice of proposed rulemaking (NPRM) to modify T-266 in the state of Alaska (78 FR 4353, January 22, 2013). Interested parties were invited to participate in this rulemaking effort by submitting written comments on the proposal. Two comments were received.

Discussion of Comments

One commenter wrote that moving the RADKY fix, as proposed, would require revision of the JUNEAU FOUR Departure procedure that serves the Juneau International Airport. The commenter noted that other waypoints being added to T-266 also form part of special Capstone low level route R2015 and any future modification of those points could require reissuance of the special Capstone charts.

The FAA will amend all procedures affected by the relocation of the RADKY fix. Additionally, there are no plans to modify waypoints associated with route R2015.

Another commenter stated that more information should be provided regarding how pilots would benefit from the change. The commenter also questioned whether plans to remove/reduce the number of NDBs within the NAS was the driving cause for the change.

The current track of T-266 consists of two minimum en route altitudes (MEA): 6,500 feet MSL between the Coghlin Island NDB and the Frederick's Point NDB; and 6,200 feet MSL between the Frederick's Point NDB and the Annette Island VOR. The modified track of T-266 uses a portion of Capstone route R2015. The segments on R2015 have MEAs ranging from 4,500 feet MSL to 6,200 feet MSL. This enables aircraft in the vicinity of Wrangell and Petersburg to take advantage of lower MEAs while transitioning into and out of airports at those cities. Additionally, the lower MEAs will benefit aircraft transiting that area by making lower altitudes available when icing conditions are encountered. The amended T-266 will also facilitate future amendment of the RNAV (GPS) approaches into Petersburg and Wrangell to incorporate transitions from T-266.

The amendment of T-266 is not being driven specifically by any plan to decommission NDBs. T-routes are RNAV routes. As the NAS transitions to performance-based navigation, reduced reliance will be placed on ground-based navigation aids. Removing the NDBs from T-266 both “unties” the route from those facilities should future plans call for them to be decommissioned and also advances the transition to satellite-based navigation.

The Rule

This action amends Title 14 Code of Federal regulations (14 CFR), part 71 by modifying RNAV route T-266 in Alaska. T-266 is currently defined by the Coghland Island, AK, NDB, the Fredericks Point, AK, NDB and the Annette Island, AK, VOR/DME. The Annette Island VOR/DME remains as one end point of the route, but the two NDBs are removed from the route description and replaced by the addition of eight RNAV waypoints (WP). The existing RADKY, AK, fix (near the Coghland Island NDB) is relocated to the southeast of its current position and serves as the other endpoint of the route. These changes enhance safety by providing lower IFR minimum en route altitudes on T-266 allowing aircraft to fly at lower altitudes when inflight icing conditions are encountered. Additionally, the changes support the expanded use of RNAV within the NAS by reducing the reliance on ground-based NDBs for navigation guidance.

Area navigation routes are published in paragraph 6011 of FAA Order 7400.9W, dated August 8, 2012 and effective September 15, 2012, which is incorporated by reference in 14 CFR 71.1. The area navigation routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic.

Environmental Review

The FAA has reviewed the above referenced action and determined that it is categorically excluded from further environmental documentation according to FAA Order 1050.1E, Environmental Impacts: Policies and Procedures, in accordance with paragraphs 311a. Additionally, the implementation of this action will not result in any extraordinary circumstances in accordance with FAA Order 1050.1E paragraph 304.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 6011—United States area navigation routes

* * * * *

T-266 RADKY, AK to Annette Island, AK (ANN) [Amended]
RADKY, AK | Fix | (Lat. 58°08′00″ N., long. 134°29′56″ W.)
XADZY, AK | WP | (Lat. 57°01′00″ N., long. 133°00′00″ W.)
VULHO, AK | WP | (Lat. 56°49′05″ N., long. 132°49′30″ W.)
FOGID, AK | WP | (Lat. 56°43′31″ N., long. 132°42′02″ W.)
YICAX, AK | WP | (Lat. 56°39′45″ N., long. 132°37′00″ W.)
NEREE, AK | WP | (Lat. 56°32′36″ N., long. 132°30′34″ W.)
VAZPU, AK | WP | (Lat. 56°27′24″ N., long. 132°25′56″ W.)
DOOZI, AK | Fix | (Lat. 55°37′57″ N., long. 132°10′29″ W.)
Annette Island, AK (ANN) | VOR/DME | (Lat. 55°03′37″ N., long. 131°34′42″ W.)

* * * * *

Issued in Washington, DC, on April 8, 2013.
Gary A. Norek,
Manager, Airspace Policy and ATC Procedures Group.

[FR Doc. 2013-08599 Filed 4-12-13; 8:45 am]

BILLING CODE 4910-13-P